DEPARTMENT OF VETERANS AFFAIRS

[OMB Control No. 2900-0795]

Agency Information Collection Activity Under OMB Review: Barriers to Health Care for Women Veterans Survey

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0795.

FOR FURTHER INFORMATION CONTACT: Maribel Aponte, Office of Enterprise and Integration, Data Governance Analytics (008), 1717 H Street NW, Washington, DC 20006, (202) 266-4688 or email maribel.aponte@va.gov. Please refer to “OMB Control No. 2900-0795” in any correspondence.

SUPPLEMENTARY INFORMATION: Authority: 44 U.S.C. 3501-21.

Title: Barriers to Health Care for Women Veterans Survey.

OMB Control Number: 2900-0795.

Type of Review: Reinstatement of a currently approved collection.

Abstract: Legal authority for this data collection is found in Public Law 116-315, Sec. 5402—“Study of Barriers for Women Veterans to Receipt of Health Care from Department of Veterans Affairs,” which requires VA to conduct an independent comprehensive study of the barriers to the provision of health care for women Veterans. Per Sec. 5402, this current study is to build on previous studies “National Survey of Women Veterans in Fiscal Year 2007-2008” and “Study of Barriers for Women Veterans to VA Health Care 2015.” The aim of the proposed survey is to better understand barriers women Veterans face accessing VA care, the comprehensiveness of care, and progress made in reducing barriers to VA healthcare for women Veterans since the previous study conducted in 2015. The data collected will allow VA to plan and provide better health care for women Veterans and to support reports to Congress about the status of women Veterans' health care.

An agency may not conduct or sponsor, and a person is not required to respond to a collection of information unless it displays a currently valid OMB control number. The Federal Register Notice with a 60-day comment period soliciting comments on this collection of information was published at 87 FR 192 on October 5, 2022, pages 60439 and 60440.

Affected Public: Individuals or Households.

Estimated Annual Burden: 5,400 hours.

Estimated Average Burden per Respondent: 45 minutes.

Frequency of Response: One time.

Estimated Number of Respondents: 7,200.

By direction of the Secretary.
Maribel Aponte,
VA PRA Clearance Officer, Office of Enterprise and Integration, Data Governance Analytics, Department of Veterans Affairs.

[FR Doc. 2022-26982 Filed 12-12-22; 8:45 am]

BILLING CODE 8320-01-P